DEPARTMENT OF HEALTH AND HUMAN SERVICES

Centers for Disease Control and Prevention

[30Day-08-07BJ]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Economic Analysis of the National Program of Cancer Registries—New—National Center for Chronic Disease Prevention and Health Promotion (NCCDPHP), Centers for Disease Control and Prevention (CDC).

Background and Brief Description

The National Program of Cancer Registries (NPCR) is a comprehensive, federally sponsored public health program involving cancer registries in 45 States and the District of Columbia. The NPCR was established to collect data on the occurrence of cancer; the type, extent, and location of the cancer; and the type of initial treatment.

CDC proposes to conduct a systematic analysis of the economic costs incurred by the NPCR. Additional information will be collected on registry activities, activity-based costs, other sources of funding and in-kind contributions. Information will be submitted to CDC once per year for three years using a Web-based system. There is no overlap with information currently collected from NPCR awardees through the Annual Program Evaluation Instrument (OMB No. 0920-0706, exp. 12/31/2008).

The proposed information collection will allow CDC to assess the true cost of registry operations in relation to the benefits of those operations, identify factors that impact cost, perform cost-effectiveness analysis, and improve the efficiency of resource allocation within the NPCR.

There are no costs to respondents except their time. The total estimated annualized burden hours are 1,012.

Estimated Annualized Burden Hours
Respondents | Number of respondents | Number of responses per respondent | Average burden per response (in hours)
NPCR funded registries | 46 | 1 | 22

Dated: June 5, 2008.
Maryam I. Daneshvar,
Acting Reports Clearance Officer, Centers for Disease Control and Prevention.

[FR Doc. E8-13181 Filed 6-11-08; 8:45 am]

BILLING CODE 4163-18-P